DEPARTMENT OF THE TREASURY

Submission for OMB Review; Comment Request

March 23, 2010.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 28, 2010 to be assured of consideration.

Alcohol and Tobacco Tax and Trade Bureau (TTB)

OMB Number: 1513-0059.

Type of Review: Extension.

Title: Usual and Customary Business Records Relating to Tax-Free Alcohol (TTB REC 5150/3).

Description: Tax-free alcohol is used for non-beverage purposes by educational organizations, hospitals, laboratories, etc. These records maintain accountability of spirits and protect tax revenue and public safety.

Respondents: State, Local, and Tribal Governments.

Estimated Total Burden Hours: 1 hour.

OMB Number: 1513-0061.

Type of Review: Revision.

Title: Letterhead Applications and Notices Relating to Denatured Spirits (TTB REC 5150/2).

Description: Denatured spirits are used for non-beverage industrial purposes in the manufacture of personal and household products. Permits, applications, and notices control the authorized uses and flow of denatured spirits, and protect the tax revenue and public safety.

Respondents: State, Local, and Tribal Governments.

Estimated Total Burden Hours: 1,890 hours.

OMB Number: 1513-0071.

Type of Review: Extension.

Title: Tobacco Products Importer or Manufacturer—Records of Large Cigar Wholesale Prices (TTB REC 5230/1).

Description: Because the tax on large cigars is based on the sales price, these records are needed to verify that the correct tax has been determined by the manufacturer or importer.

Respondents: Businesses or other for-profits.

Estimated Total Burden Hours: 1,906 hours.

Clearance Officer: Frank Foote (202) 927-9347, Alcohol and Tobacco Tax and Trade Bureau, Room 200 East, 1310 G Street, NW., Washington, DC 20005.

OMB Reviewer: Shagufta Ahmed (202) 395-7873, Office of Management and Budget, Room 10235, New Executive Office Building, Washington, DC 20503.

Celina Elphage,
Treasury PRA Clearance Officer.

[FR Doc. 2010-6819 Filed 3-26-10; 8:45 am]

BILLING CODE 4810-31-P